DEPARTMENT OF COMMERCE

National Oceanic and Atmospheric Administration

RIN 0648-XN37

Endangered Species; File No. 14249

AGENCY: National Marine Fisheries Service (NMFS), National Oceanic and Atmospheric Administration (NOAA), Commerce.

ACTION: Notice; receipt of application.

SUMMARY: Notice is hereby given that Ronald Smolowitz, Coonamessett Farm Foundation, Inc., 277 Hatchville Road, East Falmouth, MA 02536, has applied in due form for a permit to take loggerhead (Caretta caretta), leatherback (Dermochelys coriacea), Kemp's ridley (Lepidochelys kempii), green (Chelonia mydas), hawksbill (Eretmochelys imbricata), and olive ridley (Lepidochelys olivacea) sea turtles for purposes of scientific research.

DATES: Written, telefaxed, or e-mail comments must be received on or before March 26, 2009.

ADDRESSES: The application and related documents are available for review by selecting “Records Open for Public Comment” from the Features box on the Applications and Permits for Protected Species (APPS) home page, http://www.apps.nmfs.noaa.gov/index.cfm, and then selecting File No. 14249 from the list of available applications. These documents are also available for review upon written request or by appointment in the following offices:

Permits, Conservation and Education Division, Office of Protected Resources, NMFS, 1315 East-West Highway, Room 13705, Silver Spring, MD 20910; phone (301)713-2289; fax (301)427-2521; and

Northeast Region, NMFS, 55 Great Republic Drive, Gloucester, MA 01930; phone (978)281-9300; fax (978)281-9333.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 14249.

FOR FURTHER INFORMATION CONTACT: Patrick Opay or Kate Swails, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to evaluate modifications to scallop dredge gear that may reduce the probability of turtle injuries due to interactions with gear. The applicant also proposes to study sea turtle behavior so that behavior can be factored into bycatch reduction strategies and collect biological and animal health information to improve NMFS' ability to assess stocks and the impact of anthropogenic activities. Up to 17 loggerhead and 6 leatherback, hawksbill, olive ridley, green, or Kemp's ridley in any combination, would be taken during the dredge gear study annually. All of these takes could result in injury or mortality. Up to 100 loggerheads would be followed by a remotely operated vehicle annually during the behavior study. Up to 10 loggerheads would be captured annually by hoop net and have a satellite transmitter or Crittercam attached to their carapace. All animals that are handled in these studies would be measured, flipper and passive integrated transponder tagged, tissue sampled, cloacal swabbed, nasal swabbed, photographed, weighed, and released. Dead animals could be salvaged for scientific purposes. The applicant requests a 5 year permit and research activities would occur in the Atlantic Ocean off the coast of the northeastern United States.

Dated: February 17, 2009.
P. Michael Payne,
Chief, Permits, Conservation and Education Division, Office of Protected Resources, National Marine Fisheries Service.

[FR Doc. E9-3935 Filed 2-23-09; 8:45 am]

BILLING CODE 3510-22-S